OFFICE OF THE UNITED STATES TRADE REPRESENTATIVE

Determinations Under the African Growth and Opportunity Act

AGENCY: Office of the United States Trade Representative.

ACTION: Notice.

SUMMARY: The United States Trade Representative (USTR) has determined that, as of the date of publication of this notice in the Federal Register, the Republic of Sierra Leone will begin receiving the trade benefits provided for in the African Growth and Opportunity Act for articles other than textiles and apparel.

EFFECTIVE DATE: October 23, 2002.

FOR FURTHER INFORMATION CONTACT: Constance Hamilton, Senior Director for African Affairs, Office of the United States Trade Representative, (202) 395-9514.

SUPPLEMENTARY INFORMATION: The African Growth and Opportunity Act (Title I of the Trade and Development Act of 2000, Pub. L. No. 106-200) (AGOA) provides trade benefits to the countries of sub-Saharan Africa to promote increased trade and investment between the United States and sub-Saharan Africa to promote increased trade and investment between the United States and sub-Saharan Africa and economic development in the region.

In Proclamation 7360 (Oct. 2, 2000), the President designated Sierra Leone as a “beneficiary sub-Saharan African country,” as well as a “lesser developed beneficiary sub-Saharan African country,” but with delayed implementation. Proclamation 7360 delegated to the USTR the authority to determine the effective date of the designation of Sierras Leone as a beneficiary sub-Saharan African country, and, therefore, the date upon which Sierra Leone will be considered a lesser developed beneficiary sub-Saharan African country and begin receiving the trade benefits of the AGOA for articles other than textiles and apparel. The President directed the USTR to announce any such determination in the Federal Register. Based on progress that Sierra Leone has made in stabilizing its political and security situation, I have determined that Sierra Leone should begin receiving the trade benefits of the AGOA for articles other than textiles and apparel, effective as of the date of the publication of this notice in the Federal Register. Sierra Leone may now begin the process to become eligible for the trade benefits of the AGOA for textile and apparel articles.

Robert B. Zoellick,
United States Trade Representative.

[FR Doc. 02-26900 Filed 10-22-02; 8:45 am]

BILLING CODE 3190-01-M